DEPARTMENT OF TRANSPORTATION

Federal Aviation Administration

14 CFR Part 97

[Docket No. 30727; Amdt. No. 3376]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 9, 2010. The compliance date for each SIAP, associated Takeoff Minimums, and ODP is specified in the amendatory provisions.

The incorporation by reference of certain publications listed in the regulations is approved by the Director of the Federal Register as of June 9, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866;(2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC on May 28, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 1 JUL 2010

Tucson, AZ, Tucson Intl, VOR/DME OR TACAN RWY 29R, Amdt 2D

Paxton, IL, Paxton, RNAV (GPS) RWY 18, Orig

Paxton, IL, Paxton, Takeoff Minimums and Obstacle DP, Amdt 1

Paxton, IL, Paxton, VOR RWY 18, Amdt 2

Butte, MT, Bert Mooney, RNAV (GPS) Y RWY 15, Orig-A

Youngstown, OH, Youngstown Elser Metro, Takeoff Minimums and Obstacle DP, Amdt 1

Pickens, SC, Pickens County, RNAV (GPS) RWY 23, Orig-A

Effective 29 JUL 2010

Cold Bay, AK, Cold Bay, LOC/DME BC RWY 32, Amdt 9A

Savoonga, AK, Savoonga, GPS RWY 5, Orig, CANCELLED

Savoonga, AK, Savoonga, RNAV (GPS) RWY 5, Orig

Savoonga, AK, Savoonga, RNAV (GPS) RWY 23, Orig

Savoonga, AK, Savoonga, Takeoff Minimums and Obstacle DP, Amdt 1

Savoonga, AK, Savoonga, VOR RWY 23, Amdt 1

Savoonga, AK, Savoonga, VOR/DME RWY 23, Amdt 1

Centre, AL, Centre Muni, Takeoff Minimums and Obstacle DP, CANCELLED

Centre, AL, Centre Muni, VOR/DME OR GPS RWY 27, Amdt 1A, CANCELLED

Dothan, AL, Dothan Rgnl, RNAV (GPS) RWY 18, Amdt 1

Dothan, AL, Dothan Rgnl, RNAV (GPS) RWY 36, Orig

Huntsville, AL, Huntsville Intl-Carl T Jones Field, ILS OR LOC RWY 18R, ILS RWY 18R (CAT II), Amdt 24A

Muscle Shoals, AL, Northwest Alabama Rgnl, ILS OR LOC RWY 29, Amdt 5

Muscle Shoals, AL, Northwest Alabama Rgnl, RNAV (GPS) RWY 11, Amdt 1

Muscle Shoals, AL, Northwest Alabama Rgnl, RNAV (GPS) RWY 29, Amdt 1

Pago Pago, AS, American Samoa, Pago Pago Intl, VOR-D, Amdt 6

Clifton/Morenci, AZ, Greenlee County, SAN SIMON ONE Graphic Obstacle DP

Clifton/Morenci, AZ, Greenlee County, Takeoff Minimums and Obstacle DP, Orig

Mesa, AZ, Falcon Field, MESA ONE Graphic Obstacle DP

Safford, AZ, Safford Rgnl, SAFFORD ONE Graphic Obstacle DP

Springerville, AZ, Springerville Muni, GPS RWY 21, Orig, CANCELLED

Springerville, AZ, Springerville Muni, RNAV (GPS) RWY 21, Orig

Tucson, AZ, Ryan Field, ALMON ONE Graphic Obstacle DP

Tucson, AZ, Ryan Field, Takeoff Minimums and Obstacle DP, Amdt 3

Meeker, CO, Meeker, RNAV (GPS) RWY 3, Amdt 1

Hartford, CT, Hartford-Brainard, Takeoff Minimums and Obstacle DP, Amdt 5

Fernandina Beach, FL, Fernandina Beach Muni, RADAR-1, Amdt 4A, CANCELLED

Gainesville, FL, Gainesville Rgnl, RADAR-1, Orig, CANCELLED

Jacksonville, FL, Craig Muni, RADAR-1, Amdt 1, CANCELLED

Milledgeville, GA, Baldwin County, NDB RWY 28, Amdt 3

Milledgeville, GA, Baldwin County, RNAV (GPS) RWY 10, Amdt 1

Milledgeville, GA, Baldwin County, RNAV (GPS) RWY 28, Amdt 1

Milledgeville, GA, Baldwin County, Takeoff Minimums and Obstacle DP, Amdt 1

Millen, GA, Millen, RNAV (GPS) RWY 17, Amdt 1

Millen, GA, Millen, RNAV (GPS) RWY 35, Orig

Clarinda, IA, Schenck Field, Takeoff Minimums and Obstacle DP, Amdt 1

Marshalltown, IA, Marshalltown Muni, GPS RWY 12, Orig-B, CANCELLED

Marshalltown, IA, Marshalltown Muni, RNAV (GPS) RWY 13, Orig

Marshalltown, IA, Marshalltown Muni, RNAV (GPS) RWY 31, Orig

Marshalltown, IA, Marshalltown Muni, Takeoff Minimum and Obstacle DP, Orig

Marshalltown, IA, Marshalltown Muni, VOR RWY 13, Amdt 2

Marshalltown, IA, Marshalltown Muni, VOR RWY 31, Amdt 2

Bonners Ferry, ID, Boundary County, KARPS ONE Graphic Obstacle DP

Bonners Ferry, ID, Boundary County, RNAV (GPS) RWY 2, Orig

Bonners Ferry, ID, Boundary County, Takeoff Minimums and Obstacle DP, Orig

Belleville, IL, Scott AFB/Midamerica, Takeoff Minimums and Obstacle DP, Orig

Atwoods, KS, Atwood-Rawlins County City-County, Takeoff Minimums and Obstacle DP, Orig

Benton, KS, Lloyd Stearman Field, Takeoff Minimum and Obstacle DP, Orig

Junction City, KS, Freeman Field, NDB-B, Amdt 5

Hammond, LA, Hammond Northshore Rgnl, ILS OR LOC RWY 18, Amdt 4

Hammond, LA, Hammond Northshore Rgnl, RNAV (GPS) RWY 18, Amdt 1

Hammond, LA, Hammond Northshore Rgnl, RNAV (GPS) RWY 31, Amdt 1

Hammond, LA, Hammond Northshore Rgnl, RNAV (GPS) RWY 36, Orig

Hammond, LA, Hammond Northshore Rgnl, VOR RWY 18, Amdt 4

Hammond, LA, Hammond Northshore Rgnl, VOR RWY 31, Amdt 5

Canby, MN, Myers Field, Takeoff Minimums and Obstacle DP, Amdt 1

Ava, MO, Ava Bill Martin Memorial, NDB RWY 31, Amdt 1, CANCELLED

Perryville, MO, Perryville Muni, GPS RWY 2, Orig-A, CANCELLED

Perryville, MO, Perryville Muni, GPS RWY 20, Orig-A, CANCELLED

Perryville, MO, Perryville Muni, RNAV (GPS) RWY 2, Orig

Perryville, MO, Perryville Muni, RNAV (GPS) RWY 20, Orig

Perryville, MO, Perryville Muni, Takeoff Minimums and Obstacle DP, Orig

Perryville, MO, Perryville Muni, VOR/DME-A, Amdt 5

Perryville, MO, Perryville Muni, VOR/DME RNAV RWY 20, Amdt 3A, CANCELLED

Columbus, MS, Columbus-Lowndes County, RNAV (GPS) RWY 18, Orig-A

Bozeman, MT, Gallatin Field, BOZEMAN TWO Graphic Obstacle DP

Bozeman, MT, Gallatin Field, ILS OR LOC RWY 12, Amdt 7

Bozeman, MT, Gallatin Field, RNAV (GPS)-A, Amdt 1

Bozeman, MT, Gallatin Field, RNAV (GPS) Y RWY 12, Orig

Bozeman, MT, Gallatin Field, RNAV (RNP) RWY 30, Orig

Bozeman, MT, Gallatin Field, RNAV (RNP) Z RWY 12, Orig

Bozeman, MT, Gallatin Field, VOR RWY 12, Amdt 14

Bozeman, MT, Gallatin Field, VOR/DME RWY 12, Amdt 3

Sidney, MT, Sidney-Richland Muni, NDB RWY 1, Amdt 3

Sidney, MT, Sidney-Richland Muni, NDB RWY 19, Amdt 4

Sidney, MT, Sidney-Richland Muni, RNAV (GPS) RWY 1, Amdt 1

Sidney, MT, Sidney-Richland Muni, RNAV (GPS) RWY 19, Amdt 1

Sidney, MT, Sidney-Richland Muni, Takeoff Minimums and Obstacle DP, Amdt 4

Thedford, NE, Thomas County, RNAV (GPS) RWY 11, Amdt 2

Thedford, NE, Thomas County, RNAV (GPS) RWY 29, Amdt 2

Farmington, NM, Four Corners Rgnl, RNAV (GPS) RWY 25, Amdt 1

Farmington, NM, Four Corners Rgnl, Takeoff Minimums and Obstacle DP, Amdt 1

Akron, NY, Akron, RNAV (GPS) RWY 7, Amdt 1

Akron, NY, Akron, RNAV (GPS) RWY 25, Amdt 1

Durant, OK, Eaker Field, RNAV (GPS) RWY 17, Amdt 1

Durant, OK, Eaker Field, RNAV (GPS) RWY 35, Amdt 1

Durant, OK, Eaker Field, Takeoff Minimums and Obstacle DP, Orig

El Reno, OK, El Reno Rgnl, NDB RWY 35, Amdt 3C, CANCELLED

Henryetta, OK, Henryetta Muni, Takeoff Minimums and Obstacle DP, Amdt 3

Oklahoma City, OK, Wiley Post, GPS RWY 35R, Orig, CANCELLED

Oklahoma City, OK, Wiley Post, ILS OR LOC RWY 17L, Amdt 11

Oklahoma City, OK, Wiley Post, RNAV (GPS) RWY 17L, Amdt 1

Oklahoma City, OK, Wiley Post, RNAV (GPS) RWY 35R, Orig

Klamath Falls, OR, Klamath Falls, ILS OR LOC/DME RWY 32, Amdt 20

Klamath Falls, OR, Klamath Falls, RNAV (GPS) RWY 14, Amdt 1

Klamath Falls, OR, Klamath Falls, RNAV (GPS) RWY 32, Orig

Klamath Falls, OR, Klamath Falls, Takeoff Minimums and Obstacle DP, Amdt 5

Klamath Falls, OR, Klamath Falls, VOR/DME OR TACAN RWY 14, Amdt 5

Klamath Falls, OR, Klamath Falls, VOR/DME OR TACAN RWY 32, Amdt 5

Klamath Falls, OR, Klamath Falls, VOR OR GPS-B, Amdt 3, CANCELLED

Williamsport, PA, Williamsport Rgnl, Takeoff Minimums and Obstacle DP, Amdt 4

Beaufort, SC, Beaufort County, RNAV (GPS) RWY 7, Amdt 1

Beaufort, SC, Beaufort County, RNAV (GPS) RWY 25, Amdt 1

Bennettsville, SC, Marlboro County Jetport-H E Avent Field, NDB RWY 7, Amdt 5

Bennettsville, SC, Marlboro County Jetport-H E Avent Field, RNAV (GPS) RWY 7, Amdt 1

Bennettsville, SC, Marlboro County Jetport-H E Avent Field, RNAV (GPS) RWY 25,

Amdt 1

Bennettsville, SC, Marlboro County Jetport-H E Avent Field, Takeoff Minimums and Obstacle DP, Amdt 1

Bennettsville, SC, Marlboro County Jetport-H E Avent Field, VOR/DME-A, Amdt 5

Lebanon, TN, Lebanon Muni, Takeoff Minimums and Obstacle DP, Amdt 1

Baytown, TX, Baytown, RNAV (GPS) RWY 14, Orig

Baytown, TX, Baytown, RNAV (GPS) RWY 32, Orig

Baytown, TX, Baytown, Takeoff Minimum and Obstacle DP, Orig

Center, TX, Center Muni, GPS RWY 17, Amdt 1A, CANCELLED

Center, TX, Center Muni, GPS RWY 35, Orig-A, CANCELLED

Center, TX, Center Muni, RNAV (GPS) RWY 17, Orig

Center, TX, Center Muni, RNAV (GPS) RWY 35, Orig

Center, TX, Center Muni, Takeoff Minimum and Obstacle DP, Orig

Childress, TX, Childress Muni, Takeoff Minimums and Obstacle DP, Amdt 1

Corpus Christi, TX, Corpus Christi Intl, RNAV (GPS) RWY 35, Amdt 1

Giddings, TX, Giddings-Lee County, GPS RWY 17, Orig, CANCELLED

Giddings, TX, Giddings-Lee County, GPS RWY 35, Orig, CANCELLED

Giddings, TX, Giddings-Lee County, RNAV (GPS) RWY 17, Orig

Giddings, TX, Giddings-Lee County, RNAV (GPS) RWY 35, Orig

Giddings, TX, Giddings-Lee County, Takeoff Minimum and Obstacle DP, Orig

Hebbronville, TX, Jim Hogg County, GPS RWY 13, Amdt 1A, CANCELLED

Hebbronville, TX, Jim Hogg County, NDB RWY 13, Amdt 4

Hebbronville, TX, Jim Hogg County, RNAV (GPS) RWY 13, Orig

Hebbronville, TX, Jim Hogg County, Takeoff Minimum and Obstacle DP, Orig

Kingsville, TX, Kleberg County, GPS RWY 13, Orig-A, CANCELLED

Kingsville, TX, Kleberg County, RNAV (GPS) RWY 13, Orig

Kingsville, TX, Kleberg County, Takeoff Minimum and Obstacle DP, Orig

La Grange, TX, Fayette Rgnl Air Center, RNAV (GPS) RWY 16, Amdt 1A

La Grange, TX, Fayette Rgnl Air Center, RNAV (GPS) RWY 34, Amdt 1A

Odessa, TX, Odessa-Schlemeyer Field, GPS RWY 20, Orig, CANCELLED

Odessa, TX, Odessa-Schlemeyer Field, GPS-B, Orig, CANCELLED

Odessa, TX, Odessa-Schlemeyer Field, NDB RWY 20, Amdt 5

Odessa, TX, Odessa-Schlemeyer Field, RNAV (GPS) RWY 11, Orig

Odessa, TX, Odessa-Schlemeyer Field, RNAV (GPS) RWY 20, Orig

Odessa, TX, Odessa-Schlemeyer Field, RNAV (GPS) RWY 29, Orig

Seminole, TX, Gaines County, Takeoff Minimum and Obstacle DP, Orig

Vernon, TX, Wilbarger County, NDB RWY 20, Amdt 1

Vernon, TX, Wilbarger County, RNAV (GPS) RWY 2, Orig

Vernon, TX, Wilbarger County, RNAV (GPS) RWY 20, Orig

Vernon, TX, Wilbarger County, Takeoff Minimum and Obstacle DP, Orig

Wheeler, TX, Wheeler Muni, Takeoff Minimum and Obstacle DP, Orig

Wise, VA, Lonesome Pine, Takeoff Minimums and Obstacle DP, Amdt 3

Lyndonville, VT, Caledonia County, RNAV (GPS) RWY 2, Orig-A

Walla Walla, WA, Walla Walla Rgnl, ILS OR LOC/DME Z RWY 20, Orig

Walla Walla, WA, Walla Walla Rgnl, ILS OR LOC Y RWY 20, Amdt 9

Wenatchee, WA, Pangborn Memorial, RNAV (RNP) RWY 12, Orig

[FR Doc. 2010-13573 Filed 6-8-10; 8:45 am]

BILLING CODE 4910-13-P